DEPARTMENT OF COMMERCE

International Trade Administration

[Application No. 88-11A16]

Export Trade Certificate Of Review

ACTION: Notice of issuance (#88-11A16) of an amended Export Trade Certificate of Review to Wood Machinery Manufacturers of America.

SUMMARY: The U.S. Department of Commerce issued an amended Export Trade Certificate of Review to Wood Machinery Manufacturers of America (“WMMA”) on December 24, 2009. The Certificate has been amended ten times. The previous amendment was issued to WMMA on July 9, 2008, and published in the Federal Register July 17, 2008 (73 FR 41032). The original Export Trade Certificate of Review No. 88-00016 was issued to WMMA on February 3, 1989, and published in the Federal Register on February 9, 1989 (54 FR 6312).

FOR FURTHER INFORMATION CONTACT: Joseph E. Flynn, Director, Office of Competition and Economic Analysis, International Trade Administration, by telephone at (202) 482-5131 (this is not a toll-free number) or by e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2008).

The Office of Competition and Economic Analysis is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate:

WMMA's Export Trade Certificate of Review has been amended to:

1. Add the following company as a new Member of the Certificate within the meaning of section 325.2(1) of the Regulations (15 CFR 325.(1)):

Saw Trax Mfg., Inc., Kennesaw, GA, and

2. Delete the following company as a Member of the Certificate:

James L. Taylor Manufacturing Company, Poughkeepsie, NY.

The effective date of the amended certificate is September 25, 2009, the date on which WMMA's application to amend was deemed submitted. A copy of the amended certificate will be kept in the International Trade Administration's Freedom of Information Records Inspection Facility, Room 4001, U.S. Department of Commerce, 14th Street and Constitution Avenue, NW., Washington, DC 20230.

January 6, 2010.
Joseph E. Flynn,
Director, Office of Competition and Economic Analysis.

[FR Doc. 2010-277 Filed 1-8-10; 8:45 am]

BILLING CODE 3510-DR-P